DEPARTMENT OF THE TREASURY

Submission for OMB Review; Comment Request

September 25, 2012.

The Department of the Treasury will submit the following information collection request to the Office of Management and Budget (OMB) for review and clearance in accordance with the Paperwork Reduction Act of 1995, Public Law 104-13, on or after the date of publication of this notice.

DATES: Comments should be received on or before October 29, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave., NW., Suite 8140, Washington, DC 20220, or on-line at www.PRAComment.gov.

FOR FURTHER INFORMATION CONTACT: Copies of the submission(s) may be obtained by calling (202) 927-5331, email at PRA@treasury.gov, or the entire information collection request maybe found at www.reginfo.gov.

Community Development Financial Instutitions (CDFI) Fund

OMB Number: 1559-0014.

Type of Review: Extension without change of a currently approved collection.

Title: New Markets Tax Credit (NMTC) Program—Community Development Entity (CDE) Certification Application.

Form: CDFI 0019.

Abstract: The purpose of the NMTC Program is to provide an incentive to investors in the form of a tax credit, which is expected to stimulate investment in new private capital in low income communities. Applicants must be a CDE to apply for allocation.

Affected Public: Private Sector: Businesses or other for-profits.

Estimated Total Annual Burden Hours: 1,200.

Robert Dahl,
Treasury PRA Clearance Officer.

[FR Doc. 2012-23859 Filed 9-27-12; 8:45 am]

BILLING CODE 4810-70-P